ENVIRONMENTAL PROTECTION AGENCY

[FRL-6901-5]

Comprehensive Environmental Response, Compensation and Liability Act (CERCLA) or Superfund, Section 104; Announcement of Proposal Deadline for the Competition for the 2001 National Brownfields Assessment Demonstration Pilots

AGENCY: Environmental Protection Agency.

ACTION: Notice of proposal deadlines, revised guidelines.

SUMMARY: The United States Environmental Protection Agency (EPA) will begin to accept proposals for the National Brownfields Assessment Pilots on November 16, 2000. The brownfields assessment pilots (each funded up to $200,000 over two years) test assessment models, and facilitate coordinated assessment and cleanup efforts at the federal, state, and local levels.

In fiscal year 2001, an additional $50,000 may be awarded to an applicant to assess the contamination of a brownfields site(s) that is or will be used for greenspace purposes. Greenspace purposes may include, but are not limited to, parks, playgrounds, trails, gardens, habitat restoration, open space, and/or greenspace preservation.

EPA expects to select up to 35 additional National brownfields assessment pilots by April 2001. The deadline for new proposals for the 2001 assessment pilots is January 12, 2001. Proposals must be post-marked or sent to EPA via registered or tracked mail by the stated deadline. Previously unsuccessful applicants are advised that they must revise and resubmit their proposals to be considered for the 2001 National assessment pilot competition.

The National brownfields assessment pilots are administered on a competitive basis. To ensure a fair selection process, evaluation panels consisting of EPA Regional and Headquarters staff and other federal agency representatives will assess how well the proposals meet the selection criteria outlined in the newly revised application booklet The Brownfields Economic Redevelopment Initiative: Proposal Guidelines for Brownfields Assessment Demonstration Pilots (October 2000). Applicants are encouraged to contact and, if possible, meet with EPA Regional Brownfields Coordinators.

DATES: This action is effective as of November 16, 2000, and expires on January 12, 2001. All proposals must be post-marked or sent to EPA via registered or tracked mail by the expiration date cited above.

ADDRESSES: The proposal guidelines can be obtained by calling the Superfund Hotline at the following numbers: Washington, DC Metro Area at 703-412-9810, Outside Washington, DC Metro at 1-800-424-9346,TDD for the Hearing Impaired at 1-800-553-7672.

Copies of the guidelines are also available via the Internet:

http://www.epa.gov/brownfields/

FOR FURTHER INFORMATION CONTACT: The Superfund Hotline, 800-424-9346.

SUPPLEMENTARY INFORMATION: As a part of the Environmental Protection Agency's (EPA) Brownfields Economic Redevelopment Initiative, the Brownfields Assessment Demonstration Pilots are designed to empower States, communities, tribes, and other stakeholders in economic redevelopment to work together in a timely manner to prevent, assess, and safely cleanup brownfields to promote their sustainable reuse. EPA has awarded cooperative agreements to States, cities, towns, counties and Tribes for demonstration pilots that test brownfields assessment models and facilitate coordinated public and private efforts at the Federal, State, tribal and local levels. To date, the Agency has funded 362 Brownfields Assessment Pilots.

EPA's goal is to select a broad array of assessment pilots that will serve as models for other communities across the nation. EPA seeks to identify proposals that demonstrate the integration or linking of brownfields assessment pilots with other federal, state, tribal, and local sustainable development, community revitalization, and pollution prevention programs. Special consideration will be given to Federal Empowerment Zones and Enterprise Communities (EZ/ECs), communities with populations of under 100,000, and federally recognized Indian tribes. These pilots focus on EPA's primary mission—protecting human health and the environment. However, it is an essential piece of the nation's overall community revitalization efforts. EPA works closely with other federal agencies through the Interagency Working Group on Brownfields, and builds relationships with other stakeholders on the national and local levels to develop coordinated approaches for community revitalization.

Funding for the brownfields assessment pilots is authorized under Section 104(d)(1) of the Comprehensive Environmental Response, Compensation, and Liability Act of 1980, as amended (CERCLA or Superfund), 42 U.S.C. 9604(d)(1). States (including U.S. Territories), political subdivisions (including cities, towns, counties), and federally recognized Indian Tribes are eligible to apply. EPA welcomes and encourages brownfields projects by coalitions of such entities, but only a single eligible entity may receive a cooperative agreement. Cooperative agreement funds will be awarded only to a state, a political subdivision of a state, or a federally recognized Indian tribe.

Through a brownfields cooperative agreement, EPA provides funds to an eligible state, political subdivision, or Indian Tribe to undertake activities authorized under CERCLA section 104. Use of these assessment pilot funds must be in accordance with CERCLA, and all CERCLA restrictions on use of funds also apply to the assessment pilots.

The evaluation panels will review the proposals carefully and assess each response based on how well it addresses the selection criteria, briefly outlined below:

Part I (Required)

1. Problem Statement and Needs Assessment

—Effect of Brownfields on your Community or Communities

—Value Added by Federal Support

2. Community-Based Planning and Involvement

—Existing Local Commitment

—Community Involvement Plan

—Environmental Justice Plan

3. Implementation Planning

—Government Support

—Site Selection and Environmental Site Assessment Plan

—Reuse Planning and Proposed Cleanup Funding Mechanisms

—Flow of Ownership Plan

4. Long-Term Benefits and Sustainability

—Long-Term Benefits

—Sustainable Reuse

—Measures of Success

Part II (Optional)

5. Greenspace

—Authority and Context

—Community Involvement

—Site Identification, Site Assessment Plan, Flow of Ownership, and Reuse Planning

Submission to Congress and the General Accounting Office

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication in the Federal Register. A major rule cannot take effect until 60 days after it is published in the Federal Register. This action is not a “major rule” as defined by 5 U.S.C. 804(2). This action will be effective on November 16, 2000.

Dated: November 2, 2000.
Linda Garczynski,
Director, Outreach and Special Projects Staff, Office of Solid Waste and Emergency Response.

[FR Doc. 00-29224 Filed 11-15-00; 8:45 am]

BILLING CODE 6560-50-U